FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 3, 2019.

A. Federal Reserve Bank of Dallas (Robert L. Triplett III, Senior Vice President) 2200 North Pearl Street, Dallas, Texas 75201-2272:

1. Patricia H. Wallace, individually, and as trustee of the George S. Hawn Family Lifetime Trust, George S. Hawn, Jr. Family 2011 GST Exempt Trust, JHC 2004 Electing Small Business Trust f/b/o Benjamin B. Wallace, Jr., JHC 2004 Electing Small Business Trust f/b/o Patricia ('Tricia') H. Wallace, and co-trustee for the Wallace Family 2016 GST Exempt Trust, all of Corpus Christi, Texas; Benjamin B. Wallace, individually and as co-trustee for the Wallace Family 2016 GST Exempt Trust, Corpus Christi, Texas; Christina H. Hawn, individually and as trustee of the Christina H. Hawn Family 2016 GST Exempt Trust, Corpus Christi, Texas; John W. Wallace and Sally Wallace, both of Corpus Christi, Texas; Christina H. Bonner, Corpus Christi, Texas; Clayton J. Hoover, Jr., San Antonio, Texas; Gipson S. H. Dolan, as trustee of Gipson Sherman Hawn Dolan Revocable Lifetime Trust, Naples, Florida; Hailey M. H. Brown, as trustee of Hailey McCollough Hawn Brown Revocable Lifetime Trust, Charlotte, North Carolina; Helena M.H. Perry, as trustee of Helena McFarlin Hawn Perry Revocable Lifetime Trust, Vero Beach, Florida; and Hewit H. Rome, as trustee of Hewit Hawn Rome Revocable Lifetime Trust, Naples, Florida; a group acting in concert to acquire and retain voting shares of American Bank Holding Corporation and indirectly, acquire and retain shares of American Bank, National Association, both of Corpus Christi, Texas.

Board of Governors of the Federal Reserve System, June 18, 2019.
Yao-Chin Chao,
Assistant Secretary of the Board.

[FR Doc. 2019-13243 Filed 6-20-19; 8:45 am]

BILLING CODE P